DEPARTMENT OF AGRICULTURE

Forest Service

Lake Tahoe Basin Federal Advisory Committee (LTFAC)

AGENCY: Forest Service, USDA.

ACTION: Notice of meeting.

SUMMARY: The Lake Tahoe Basin Federal Advisory Committee will hold a meeting on May 5, 2009 at the Tahoe Regional Planning Agency, 128 Market Street, Stateline, NV 89449. This Committee, established by the Secretary of Agriculture on December 15, 1998 (64 FR 2876), is chartered to provide advice to the Secretary on implementing the terms of the Federal Interagency Partnership on the Lake Tahoe Region and other matters raised by the Secretary.

DATES: The meetings will be held May 5, 2009, beginning at 12 p.m. and ending at 5 p.m.

ADDRESSES: The meeting will be held at the Tahoe Regional Planning Agency, 128 Market Street, Stateline, NV 89449.

For Further Information or to Request an Accommodation (one week prior to meeting date) Contact: Aria Hains, Lake Tahoe Basin Management Unit, Forest Service, 35 College Drive, South Lake Tahoe, CA 96150, (530) 543-2773.

SUPPLEMENTARY INFORMATION: Items to be covered on the agenda: (1) Discuss policy associated with the Federal share environmental improvement program for capital projects located on private land; (2) review and discuss public comments and congressional input on LTFAC's preliminary recommendation of Lake Tahoe Southern Nevada Public Land Management Act (SNPLMA) Round 10 capital projects and science themes, and (3) develop a final LTFAC recommendation for the Lake Tahoe SNPLMA Round 10 capital projects and science themes.

All Lake Tahoe Basin Federal Advisory Committee meetings are open to the public. Interested citizens are encouraged to attend at the above address. Issues may be brought to the attention of the Committee during the open public comment period at the meeting or by filing written statements with the secretary for the Committee before or after the meeting. Please refer any written comments to the Lake Tahoe Basin Management Unit at the contact address stated above.

Dated: March 26, 2009.
Terri Marceron,
Forest Supervisor.

[FR Doc. E9-7419 Filed 4-6-09; 8:45 am]

BILLING CODE 3410-11-P